DEPARTMENT OF AGRICULTURE

Forest Service

Rogue/Umpqua Resource Advisory Committee

AGENCY: Forest Service, USDA.

ACTION: Notice of meeting.

SUMMARY: The Rogue/Umpqua Resource Advisory Committee (RAC) will met on Friday, March 1, 2002. The meeting is scheduled to begin at 8:30 a.m. and conclude at approximately 4:30 p.m. The meeting will be held at the Douglas County Library in the Ford Community Room, 1409 NE Diamond Lake Blvd in Roseburg. The agenda includes: Review of Title II projects on the Rogue River and Umpqua national forests proposed by the Forest Service and Public Forum, including presentation of proposals submitted by the public. The Public Forum is scheduled to begin at 9 a.m. Time allotted for individual presentations will be limited to 3-4 minutes. Written comments are encouraged, particularly if the material cannot be presented within the time limits for the Public Forum. Written comments may be submitted prior to the March 1 st meeting by sending them to Designated Federal Official Jim Caplan at the address given below.

FOR FURTHER INFORMATION CONTACT: For more information regarding this meeting, contact Designated Federal Official Jim Caplan; Umpqua National Forest; PO Box 1008, Roseburg, Oregon 97470; (541) 957-3203.

Dated: February 13, 2002.
Deborah Schmidt,
Acting Deputy Forest Supervisor, Umpqua National Forest.

[FR Doc. 02-4108 Filed 2-20-02; 8:45 am]

BILLING CODE 3410-11-M